DEPARTMENT OF COMMERCE

National Oceanic and Atmospheric Administration

50 CFR Part 660

[Docket No. 260120-0031]

RIN 0648-BN00

Magnuson-Stevens Act Provisions; Fisheries Off West Coast States; Pacific Coast Groundfish Fishery; Pacific Coast Groundfish Fishery Management Plan; Fixed Gear Marking and Entanglement Risk Reduction

AGENCY: National Marine Fisheries Service (NMFS), National Oceanic and Atmospheric Administration (NOAA), Commerce.

ACTION: Proposed rule; request for comments.

SUMMARY: This proposed rule would implement gear marking requirements and entanglement risk reduction measures for portions of the Pacific coast groundfish fishery. This rulemaking will consist of mandatory requirements and voluntary measures. These new requirements and voluntary measures will be established pursuant to the Magnuson-Stevens Fishery Conservation and Management Act. The intent of the gear marking requirements is to increase the likelihood of attributing entanglements to a specific fishery and gear type. The intent of the risk reduction measures is to reduce bycatch by decreasing the likelihood of marine animal entanglements with fishing line. NMFS requests public comment on these proposed requirements and voluntary measures.

DATES: Comments must be received no later than March 9, 2026.

ADDRESSES: A plain language summary of this proposed rule is available at https://www.regulations.gov/docket/NOAA-NMFS-2024-0045. You may submit comments on this document, identified by NOAA-NMFS-2024-0045, by the following method:

• Electronic Submission: Submit all electronic public comments via the Federal e-Rulemaking Portal. Visit https://www.regulations.gov and type NOAA-NMFS-2024-0045 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

• Written comments regarding the burden-hour estimates or other aspects of the collection-of-information requirements contained in this proposed rule may be submitted to NMFS West Coast Region and to https://www.reginfo.gov/public/do/PRAMain. Find this particular information collection by selecting “Currently under 30-day Review—Open for Public Comments” or by using the search function. An initial regulatory flexibility analysis was prepared and is available on the Pacific Fishery Management Council website at https://www.pcouncil.org.

FOR FURTHER INFORMATION CONTACT: Gretchen Hanshew, Fishery Management Specialist, at 206-526-6147 or gretchen.hanshew@noaa.gov.

SUPPLEMENTARY INFORMATION:

I. Background

This proposed rule includes gear marking requirements and entanglement risk reduction measures for portions of the Pacific coast groundfish fishery. These proposed measures are consistent with the authority provided through the Magnuson-Stevens Act section 303(a)(11) for conservation and management measures that, to the extent practicable, minimize bycatch; and with the authority provided at MSA section 303(b)(4) for measures that allow for prohibiting, limiting, conditioning, or requiring use of specified types of fishing gear. The framework for gear definitions and restrictions is described in the Pacific Coast Groundfish Fishery Management Plan (PCGFMP) in Section 6.6, which notes that gear definitions and restrictions may be revised through a rulemaking process. Additionally, section 6.10.3 of the PCGFMP authorizes gear identification requirements, and provides that these requirements may be modified as necessary in Federal regulations. This rulemaking will consist of new mandatory requirements and voluntary measures and is proposed to be promulgated pursuant to the Magnuson-Stevens Act Section 303(c) and 304(b)(1)(A). The intent of the gear marking requirements for buoys and portions of lines is to increase the likelihood of attributing entanglements to a specific fishery. The intent of the risk reduction measures is to reduce bycatch by decreasing the likelihood of marine animal entanglements with fishing line. NMFS is proposing this rulemaking, in part, in response to increased rates of entanglement of humpback whales with Pacific coast fishing gear since 2014. This proposed rule also clarifies requirements regarding the position of escape panels on pot gear to prevent the escape panel from being on the bottom of the pot and promote similarity in escape panel requirements with Federal groundfish pot fisheries off Alaska. This rulemaking also proposes clarifications in longline regulations throughout 50 CFR part 660 for consistency with Council recommendations proposed in this rulemaking.

This proposed rule is based on the Council's final recommendations for gear marking and entanglement risk reduction made at its June 2024 meeting in San Diego, CA. In developing the recommended measures, the Council considered the results of a 2022 workshop with the groundfish fishing industry, “Improving Gear Marking in the U.S. West Coast Sablefish Pot Fishery”, as well as reports from its advisory bodies and public testimony.

Pursuant to MSA section 303(c)(2), the Council deemed the proposed regulations necessary and appropriate to implement these actions in a December 20, 2024, letter from Council Executive Director, Merrick Burden, to Regional Administrator Jennifer Quan. The proposed modifications to the regulations implementing the PCGFMP are consistent with the authority provided in the PCGFMP sections 6.6 and 6.10.3 for gear restrictions being described in regulation. We are seeking comments regarding whether vessel identification may be more legible on buoys compared to gear-specific tags, and, if more legible on buoys, whether there are logistical difficulties with painting or writing the vessel identification on each buoy. We also seek comments regarding the proposed information collection and the accuracy of our burden hour and cost estimates.

A. The Needs and Scope of This Rulemaking

Marine mammals and turtles are known to become entangled in fishing gear, which can impede foraging or cause serious injury or death to the entangled animal. Though relatively rare, the marine species most often observed entangled in the Pacific Coast groundfish fishery is humpback whales (Megaptera novaeangliae). For this reason, we expect measures in this proposed rule to be most likely to have a positive effect on humpback whales, and therefore discuss this species in greater detail. In recent years since 2014, total instances of entanglement of humpback whales, including both listed under the Endangered Species Act (ESA) and non-ESA listed, in fishing gear (or presumed fishing gear) off the U.S. west coast have increased compared to prior years. From 2005-2013 the average number of confirmed entanglements was less than four humpback whales per year. From 2014-2023, there were 223 total confirmed entanglements of humpback whales, an average of over 22 per year. Of those more recent entanglements, in only approximately 48 percent of instances was the fishing gear able to be identified to type and/or attributed to the fishery that was the source of the entangling gear. To continue development of measures that are effective at reducing risk of entanglements, NMFS needs to be able to identify which gear types are entangling protected species. Using this information, NMFS can develop appropriate fishery management actions in federally managed fisheries to mitigate risk of entanglement for protected species.

Harvesters in a variety of West Coast fisheries use fishing gears that pose a risk of entanglement to protected species, including both ESA and non-ESA listed species. In the commercial groundfish fisheries off the coasts of Washington, Oregon and California use fishing gears known to entangle humpback whales, and fish in areas that overlap with humpback whale habitat. Specifically, between 2011 and 2023, there are five known entanglements of humpback whales with sablefish pot gear. Also, within the groundfish fishery, vessels that use bottom longline gear employ surface gear with buoys that also pose risks of entangling protected species. This proposed rule would require gear-specific marking for non-tribal commercial pot and bottom longline gears (as defined at § 660.11) (collectively referred to hereafter as fixed gear) that are used to harvest Pacific coast groundfish. The goal of this rulemaking is to enable NMFS, during an evaluation of available evidence regarding the source of an entanglement, to either attribute entanglements to bottom longline or pot gear used in the groundfish fishery, or eliminate the groundfish fixed gear fishery as the probable source.

Sablefish pot gear is fished similarly to bottom longline gear; they target similar species in similar times and areas, sometimes on the same trips. When deployed, both are anchored to the bottom, marked at the surface with attached buoys, and often left to sit unattended to catch the target species. Because of their similarity, both gear types could pose a risk of entangling protected species.

Sablefish pot gear is usually fished as a series of baited pots. Multiple pots are attached to a heavy-duty rope (hereafter referred to as the groundline). The series of baited pots attached to the groundline (hereafter string of pots) sits on the seafloor for a period of time and attracts and entraps the target species. The string of pots is deployed and retrieved by the fishing vessels using one or more ropes (hereafter referred to as lines) that attach to each end of the string of pots and extend upwards through the water column to the surface (this line is referred to as the vertical line). The vertical line is attached to one or more buoys that float at the surface. The buoys are used to mark the terminal end(s) of the string of pots so that the location is known by other vessel traffic, and so that the vessel operator can effectively retrieve the gear after it sits for 1-7 days to attract and catch the target species (also called soak, or soak time). Pots may be rigid or collapsible, but both types are required to be fitted with escape panels of a specified minimum size. These escape panels are designed to deteriorate relatively quickly to prevent the pot from entrapping fish indefinitely if the pot is lost at sea. Pot gear generally has a longer soak time than bottom longline, increasing the relative risk of entanglement due to the amount of time the gear is unattended in the water. In addition, pots pose a greater risk of serious injury or mortality when entangling protected species because they are heavier.

Bottom longline gear is comprised of an anchored groundline with multiple hooks attached so as to fish horizontally along the bottom. Similar to strings of pots, as described above, bottom longline employs vertical lines at each terminal end of the groundline with surface buoys that identify the location of the gear for other vessel traffic and enable fishing vessels to effectively retrieve their gear. Bottom longlines are generally left to soak for 2-48 hours. Longer soak times are not practical because the gear is lighter and is more easily moved by ocean currents over time compared to strings of pot gear, and predators or scavengers can damage or destroy the hooked target species. Vertical lines and surface buoys pose a risk of entanglement while the gear is soaking. Also, if marine mammals were to depredate on the target species hooked on the line, there is a heightened risk that the animal may become entangled in the groundline or vertical line.

B. Gear Marking and Risk Reduction Development Process

In 2020, NMFS issued a biological opinion evaluating the effects of the groundfish fishery on ESA-listed humpback whales in the groundfish fishery. The mandatory terms and conditions from the incidental take statement in that opinion required NMFS and the Council to investigate the feasibility of implementing additional pot gear marking requirements in the groundfish fishery. A virtual online workshop was hosted by Oregon Sea Grant on November 16, 2022 to discuss feasibility of gear marking and risk reduction measures. A summary of the results of that workshop was reviewed by the Council at its March 2023 meeting and further scoping was scheduled for June 2023. At its June 2023 meeting, the Council considered the similarities of pot and bottom longline gears and the groundfish fisheries that use that gear, and the March 2023 recommendations from NMFS, and expanded the scope of gear marking to include bottom longline gear in addition to pot gear. Then the Council adopted a purpose and need statement and a preliminary range of alternatives at its September 2023 meeting. At its March 2024 meeting, the Council refined the range of alternatives and adopted a preliminary preferred alternative for gear marking and entanglement risk reduction measures. At its June 2024 meeting in San Diego, CA the Council recommended its final preferred gear marking and entanglement risk reduction measures, which are the subject of this proposed rule.

II. Gear Marking

This rulemaking proposes new requirements in the Pacific Coast groundfish fishery for marking all buoys and the top 20 fathoms (fm) (120 feet or 37 meters) of the vertical line used with pot or bottom longline gear. For the first 3 years after the initial effective date of these requirements, temporary marking methods may be used to satisfy the line marking requirements, and thereafter the top 20 fm (37 m) of vertical line must be line manufactured in the designated color schemes. The Council has recommended and NMFS is proposing to require new gear marking requirements for both pot and bottom longline gears used in the groundfish fishery. This will result in two color-coded schemes of gear marking; one for groundfish pot gear and one for groundfish bottom longline gear.

A. New Requirements for Marking Buoys

Buoys have been documented in approximately two-thirds of all humpback whale entanglement reports, however only about one-third of those buoys had visible and legible marking that could be used to facilitate gear identification. Additionally, in entanglements positively attributed to pot gears in general, it is relatively rare for no buoy to be present. Therefore, the Council recommended gear-specific buoy tags be attached to each surface buoy, with vessel identification information. NMFS proposes, and the Council has deemed consistent with their recommendations, gear-specific buoy tags be attached to each surface buoy and that each buoy have vessel identification, either on the buoy itself or on the tag. The Council's Enforcement Consultants recommended that every buoy tag be engraved, etched, or stamped with a legible vessel identification number; the same identifying number(s) specified in existing vessel identification requirements. Therefore, NMFS is proposing that each tag must have a physical indentation and a contrasting color. NMFS proposes buoy tags on every surface buoy in a gear-specific color (table 1), with a double-sided gear specific shape marked on it, “P” for pot and “L” for bottom longline, and that the vessel identification number be marked on the tag or on the buoy. NMFS is not proposing gear-specific tag shapes, as described below. Tags will be required on every buoy because it is possible that not all buoys would remain connected if the surface gear were to become entangled. Fixed gears that are the subject of this rulemaking are currently required to have vessel identification on at least one buoy in its surface gear, per 50 CFR 660.219 and 319.

Table 1—Proposed Two-Color Line Marking Schemes for Bottom Longline and Pot Gears
Groundfish gear type | Color A & tag color | Color B | Core color (may be visible on some line types)
Bottom Longline | Brown | Blue | White.
Pot | Orange | Blue | White.

The Council considered gear-specific marks/shapes on the buoys themselves, but it was not recommended because surface lines and buoys are often used to float multiple gear types in a fishing vessel's portfolio of target species. As a result, a vessel may fish multiple gear types and in multiple fisheries, including groundfish, on the same trip. Fishery and gear-specific marks on buoys would require duplicative gear set-ups be on board the vessel. Due to the limitations on storage space, and reductions in harvest efficiencies to require separate trips, it would be impractical to require fishery and/or gear-specific marks on the buoys themselves. Instead, the Council recommended tags be attached to the buoys, which would achieve the same purpose of allowing NMFS to identify gear involved in an entanglement. NMFS proposes that tags with vessel identification be attached to each and every surface buoy with a gear-specific color and engraved shape for any pot or bottom longline gear that is deployed in the groundfish fishery. Tags would be required to be made of a material that is durable in ultraviolet and saltwater conditions, such that it retains its general shape and color over time. Tags may be similar to those used to mark cattle on their ears. Buoy tags were recommended because they can be swapped out so that the surface gear set up, including the large buoys used with groundfish gear, can be used to float different gear types. This method would allow vessel operators to use the appropriate gear-specific buoy tags when needed without having to purchase and carry or store double or triple the number of buoys. A vessel would be required to have compliant tags ready for attaching to each buoy on board the vessel during a trip for which they have declared pot or bottom longline groundfish fishing.

During development of this proposed rule, NMFS' research indicated that there are limited vendors offering the ability to customize engraved tags beyond sequential numbering. Therefore, ordering tags from the manufacturer with vessel identification and gear-specific mark could be challenging, which could force vessel operators to do their own engraving to comply with new rules. This could be a greater time burden than what NMFS has estimated. Also, most vendors have limited tag shapes, and therefore we are not proposing to require a specific tag shape, but a gear-specific color and mark instead. NMFS is seeking public comment for the proposal to allow vessel identification (e.g. U.S. Coast Guard number) on either a gear-specific tag or on the buoy itself. NMFS notes that if only the gear-specific mark (i.e., “P” or “L”) were required on the tag, stags could be potentially purchased in bulk quantities, potentially reducing the cost per tag. NMFS also seeks public comment on whether the vessel identification information would be easier to maintain if it was required to be painted on every buoy or required to be engraved on the gear-specific tag attached to every buoy. NMFS notes that we are not proposing to modify the requirement that at least one buoy has the vessel identification legibly marked on it, per current regulations at 50 CFR 660.219 and 319.

New buoy marking requirements in this proposed rule are expected to not only facilitate identification of sablefish pot and groundfish bottom longline gears in an entanglement (positive attribution), but also to enable a determination that unmarked buoys associated with future entanglements would be unlikely to originate from the groundfish fixed gear fishery (negative attribution).

Therefore, the Council recommended and NMFS is proposing to require gear specific tags attached to each buoy with vessel identification when bottom longline and pot gear is deployed in the subject fisheries. When gear is on board the vessel, appropriately marked and colored tags should be on board the vessel and ready to be attached and/or presented to an authorized officer upon request.

B. New Requirements for Marking Lines

Lines have been documented in a majority of entanglements. Available data for known pot gear entanglements suggest that the line involved is most often the surface line and the top 5 fm (2 m) of vertical line. Fixed gears that are the subject of this rulemaking are not currently subject to any line marking requirements.

NMFS proposes requiring two-color, gear-specific color schemes for marking each vertical line deployed in the commercial limited entry and directed open access groundfish fishery for vessels using pot and bottom longline gears. NMFS is proposing that lines must be marked in the specified colors by the manufacturer, with strands in each color, except that temporary methods of marking with the same colors would be allowed for 3 years after the effective date of the final rule.

Length or Distance of Line Marking

NMFS proposes that at least the top 20 fm (37 m) of vertical line be continuously marked. This distance of marking was chosen to balance improved likelihood of entangled gear being the portion of the line that was marked, while also keeping the cost to industry low. Most vessels using fixed gear in the groundfish fishery deploy between two to eight sets of gear per trip in depths up to 600 fathoms (182 m), with two vertical lines per set. Requiring the entire length of vertical lines to be marked would be expensive with manufactured line and time-consuming with temporary marks because of the deep depths fished, and would be expected to provide little incremental increase in likelihood of gear identification because it is relatively uncommon for the bottom of the line or for more than 50 fathoms of line to be present in an entanglement. Additionally, requiring marking of more than the top 20 fm (37m) of vertical line would likely require retrieval of the gear and disruption of fishing to provide enforcement agents the necessary evidence of a vessel's compliance with new gear marking requirements when the gear is deployed.

Methods of Marking and Implementation Timeline

The Council considered the most efficient solutions to maximize compliance with new line marking requirements. Manufactured line in specified color schemes is expected to have the greatest longevity. However, some operators may have difficulties in procuring manufactured line. To increase equity among fishery participants in complying with line marking requirements in a timely manner, the Council recommended a robust temporary marking scheme that requires continuous, alternating bands of the same colors specified for manufactured line for each gear type on at least the top 20 fm (37 m) of the vertical line. Temporary marking is expected to result in giving operators that face difficulties in procuring manufactured line for any reason time to comply with this proposed rule while still ensuring that the purpose of the rule to improve gear identification in entanglements is still achieved. Alternating marks would consist of colored rope sections that result in a continuous, alternating two-color scheme for each groundfish fixed gear type, as detailed in table 1 below. Each colored band for temporary marks would be required to be greater than 18 inches to 28 inches (46 centimeters to 71 centimeters) of linear rope length. Presence of any color rope, besides white, other than the color scheme shown in table 1 in the top 20 fm (37 m) of the vertical line would be prohibited for vessels fishing for groundfish with these gear types in the limited entry and directed open access groundfish fisheries. NMFS acknowledges that some types of manufactured line are not 100 percent customizable, e.g., they have an inner core color that is necessary and shows through on the outer surface of the line. This core is usually white.

In order to give fishery operators flexibility in complying with this requirement, NMFS is not including in the proposed rule a method or material for applying temporary marks in the first 3 years after the final rule is effective, but in the development of this action the Council discussed multiple ways to achieve the required marking scheme, such as paint or colored tape.

The Council acknowledged the superiority of using manufactured line for gear marking schemes, due to greater consistency and durability in the colors. However, the Council recommended a 3-year allowance for temporary marking methods to be used on existing vertical lines in order to allow operators to defer the cost of line replacement while still complying with the new marking requirements; delay purchasing new manufactured line until their normal line replacement time if that occurs during the 3-year transition period, which could reduce the amount of line in good condition that must be discarded; and/or have an alternative line marking option in case manufactured line in the required color scheme is not available during the first several years of the new marking requirements. NMFS is proposing a 3-year allowance for temporary line markings because it is expected to allow more equitable gear marking expenses for small operators with low profit margins, reduce waste of usable line, and mitigate for potential disruptions in availability of manufactured line.

Manufactured line can be ordered by the coil; a standard coil is 1200 ft (365.8 meters) and costs approximately $200-$500, and custom colors are available at no additional cost. Some manufacturers offer different size coils. Manufactured line may be used to satisfy the marking requirements for groundfish pot and bottom longline gears immediately upon the effective date of a final rule, which NMFS is proposing to be effective January 1, 2026. Manufactured line would be the only compliant marking method beginning 3 years from the effective date of a final rule. Under the proposed rule, manufactured line used in the groundfish fishery for pot or longline gears must have at least the top 20 fm (37 m) consisting of only the two gear-specific colors A and B specified in table 1. Both colors must be used; NMFS recommends that at least one-third of the strands in the rope be one color and all the other strands be the other color required in the gear-specific two-color scheme. Presence of a third color, besides white, is prohibited in the top 20 fm (37 m) to reduce the likelihood of mistaken gear identification for gear that is observed entangled on marine animals. NMFS seeks public comment on the cost estimates for line and these requirements and recommendations.

C. Summary of Proposed Gear Marking Requirements

Therefore, the Council recommended and NMFS is proposing a requirement for vessels to use fishing gear with the following gear-specific marking schemes (summarized in table 2). The gear marking requirements in this proposed rule would apply to vessels fishing in the limited entry or directed open access groundfish fisheries with bottom longline or pot gear.

Consistent with the Council recommendations, NMFS is proposing that all buoys deployed on limited entry or directed open access groundfish pot surface gear must have gear-specific orange tags attached with a “P” engraved on them in a contrasting color and that every buoy or buoy tag has the vessel identification number on them. Buoys deployed on limited entry or directed open access groundfish bottom longline surface gear would be required to have brown tags attached with an “L” engraved on them in a contrasting color and every buoy or buoy tag would be required to have the vessel identification number on them. Before leaving port on a trip where the vessel is intending to fish groundfish, the vessel would be required to have buoy tags of the appropriate color, and marking on board. There would have be enough tags for each buoy, and they must be ready to attach to each buoy before the gear is deployed. The declaration registered for a vessel under the vessel monitoring system, at the time of the inspection by an authorized agent, will determine applicability of gear marking requirements.

The Council recommended and NMFS is proposing that at least the top 20 fm (37 m) of vertical line used to deploy bottom longline or pot gear in the limited entry or directed open access fishery to be continuously marked. Bottom longline vertical lines would be required to be continuously marked in brown and blue. Pot gear vertical lines would be required to be continuously marked in orange and blue. Both colors must be used; manufactured lines should be at least ⅓ of strands in one color and all remaining strands in the other color, with any other color besides white prohibited in the top 20 fm (37 m). Temporarily marked lines would be required to be gear-specific, two-color alternating, continuous bands between 18-28 inches (46-71 cm) each for a minimum of 20 fm (37 m) at the top of the vertical line.

The Council recommended and NMFS is proposing that manufactured line, and only manufactured line, be used to mark vertical lines for the subject gears and fisheries, beginning three years after implementation of the gear marking requirements described in this proposed rule, which is expected to be January 1, 2029. In other words, temporary markings will no longer satisfy line marking requirements after three years, expected to be December 31, 2028.

Table 2—Summary Table of All Proposed Gear Marking and Vessel Identification (ID) Requirements for the Limited Entry (LE) and Directed Open Access (DOA) Groundfish Fixed Gear Fisheries
Portion of gear | Marking | Marking details
Buoy—Pot (LE or DOA), when deployed | Orange tag with at least 1¾ inch tall letter “P” engraved in a contrasting color; vessel ID on tag or buoy | Tags must be securely attached to each buoy. Tags for any other fishery must be removed.
Buoy—Bottom Longline (LE or DOA), when deployed | Brown tag with at least 1¾ inch tall letter “L” engraved in a contrasting color; vessel ID on tag or buoy | Tags must be securely attached to each buoy. Tags for any other fishery must be removed.
Buoy—Pot, On Board the Vessel ¹ (LE or DOA) | Orange tag with at least 1¾ inch tall letter “P” engraved in a contrasting color are on board the vessel; vessel ID on tag or buoy | Tags must be ready to securely attach to each buoy and presented to authorized officer upon request.
Buoy—Bottom Longline, On Board the Vessel ¹ (LE or DOA) | Brown tag with at least 1¾ inch tall letter “L” engraved in a contrasting color are on board the vessel; vessel ID on tag or buoy | Tags must be ready to securely attach to each buoy and presented to authorized officer upon request.
Vertical line(s)—Pot, Manufactured (LE or DOA) | At least the top 20 fm is orange and blue manufactured line ² | Colors other than orange and blue are prohibited on the top 20 fm.
Vertical line(s)—Bottom Longline, Manufactured (LE or DOA) | At least the top 20 fm is brown and blue manufactured line ² | Colors other than brown and blue are prohibited on the top 20 fm.
Vertical line(s)—Pot, Temporary (LE or DOA) | At least the top 20 fm continuously marked in alternating orange and blue. Each color segment should be between 18 and 28 inches long | Visible line in any other color is prohibited in the top 20 fm. Compliant temporary markings only satisfy marking requirements for 3 years from the effective date of the final rule.
Vertical line(s)—Bottom Longline, Temporary (LE or DOA) | At least the top 20 fm continuously marked in alternating brown and blue. Each color segment should be between 18 and 28 inches long | Visible line in any other color is prohibited in the top 20 fm. Compliant temporary markings only satisfy marking requirements for 3 years from the effective date of this final rule.
¹ NMFS recommends at least ⅓ in one color and the remainder in the other color.
² Vessel declaration includes fishing groundfish with either pot or bottom longline gear.

III. Entanglement Risk Reduction

This section describes proposed voluntary and required management measures used to reduce risk of entanglement of protected species and reduce bycatch. These measures affect the same groups of fishermen subject to gear marking requirements described above that use bottom longline or pot gear in directed groundfish fisheries.

Fishing lines on or near the surface generally poses a higher risk of entanglement compared to fishing gear at deeper depths or on the bottom. Therefore, measures are being proposed that could reduce risk of entanglement with the surface and vertical lines in groundfish pot and bottom longline gears.

For these reasons, the Council recommended and NMFS is proposing to modify the requirement that fixed gear be marked at the surface at both terminal ends, and proposing to limit the amount of surface line connecting buoys.

A. Reducing Surface Gear Requirements

Current regulations at §§ 660.219 and 660.319 require that pot and bottom longline gear be marked at both terminal ends with vertical lines and buoys. As noted above, vertical lines and surface gear both pose a risk of entanglement to protected species. Therefore, allowing vessels to reduce the number of lines in the water may reduce risk of entanglement. The proposed rule would modify the requirement that pot and bottom longline gear be marked at both terminal ends, allowing for the option to mark only one terminal end. This proposed rule would allow vessel operators to use a vertical line and surface gear at one or both ends of their gear, at their own discretion.

For these reasons, the Council recommended and NMFS is proposing to modify the requirement that fixed gear be marked at the surface at both terminal ends. Gear would be required to be marked at the surface on at least one terminal end, with a pole, flag, light, radar reflector and a buoy that is marked with vessel identification, per current regulations at §§ 660.219 and 660.319.

B. Limiting Surface Line

Surface gear consists of the buoys and the line between them. Surface gear marks the location of the terminal end(s) of strings of pots and longline gear sets and serves as the primary mechanism for retrieving gear. Often, most of the buoys are floating at or near the surface and are spaced along the surface line so as to absorb changes in ocean conditions while the gear is actively fishing. Overall, more line (vertical line plus surface line) needs to be deployed than simply the depth of the water at the location the gear is set. Wind and tidal changes vary the depth of the water where the gear is set. Surface lines need to have enough slack to adjust to these changes in ocean conditions so the buoys are not submerged completely.

If there is more vertical line or surface gear than is necessary for marking and retrieval of the gear, the excess line poses increased risk of entanglement with no tangible benefit to fishermen. Restricting the maximum length of surface gear, measured from the first buoy (or the high flyer) to the last buoy (main buoy), will prohibit excess surface line and reduce risk of entanglement and bycatch of protected species. In public testimony at Council meetings, groundfish fixed gear fishermen who participated said that about 50 ft (15 m) or less of surface line was enough to allow set gear to maintain surface marking buoy(s) with minimal slack line, depending on the depth and location of the set. Surface line restrictions that are too short could cause buoys to fully submerge in certain conditions, rendering the set temporarily or permanently lost. To balance the desire to reduce slack line on the water, while allowing enough line so that gear is not lost with strong tides and currents, the Council recommended a limit for surface line that is 3 meters longer than what some fishermen said was their typical maximum amount of line.

The Council also considered requiring line marking on the surface line. However, for the same reason gear-specific marks on buoys was not feasible, the Council did not recommend gear-specific surface line marking to allow operational flexibilities when a vessel uses the same surface set up to float multiple gear types or in multiple fisheries.

For these reasons, the Council recommended and NMFS is proposing to limit the amount of surface line that may be used between the first and last buoys to 60 ft, or 10 fm (18 m) for every surface gear set up used for groundfish pot and bottom longline gear.

IV. Additional Regulation Changes

Beyond the gear marking and risk reduction measures described above, this proposed rule also includes two additional changes. Pot and trap gears are fitted with a required panel (at §§ 660.230(b) and 660.330(b)) that, if the gear were lost, would biodegrade to create an opening of specified dimensions so that the pot does not perpetually entrap animals. This mechanism is referred to as an escape panel, and is accomplished with an untreated cotton twine that is 100 percent biodegradable. When the twine decomposes the pot has an opening that allows animals inside the pot to escape. The Council considered recommendations of its enforcement consultants to amend pot gear configuration regulations to prohibit pots from having the escape panel on the bottom, which would align regulations more closely with those in effect off the coast of Alaska pertaining to escape panel placement. The enforcement consultants posited that if an escape panel was on the bottom of the pot, resting on the seafloor, the pot would still not open as it biodegrades and animals would continue to be trapped if the pot is lost. Current groundfish regulations give no specificity about the placement of the escape panel. Therefore, the Council recommended and NMFS is prohibiting escape panels from being positioned on the bottom of pot, similar to regulations off the coast of Alaska. The Council also acknowledged that collapsible pots, a type of pot that is allowed in the subject fisheries, do not have a “bottom” like conventional pots, and would need an exception from this requirement to accommodate this difference in gear configurations.

Additionally, the enforcement consultants and industry recommended that the cotton biodegradable maximum twine size (preventing it from being too thick and biodegrading too slowly) for the Pacific coast groundfish fishery be modified to be the same maximum twine size as required for vessels fishing off the coast of Alaska (i.e., the North Pacific). Currently, cotton twine for the escape panel used for Pacific coast groundfish can be no larger than number 21. In North Pacific fisheries, the cotton twine size to attach the escape panel can be no larger than number 30, a slightly thicker twine than is currently allowed off Washington, Oregon, and California. Some fishermen use the same pots to fish in both regions, and current rules mean that compliant pots used in Alaska (e.g., number 30 twine) are not compliant if used off the coasts of Washington, Oregon, and California because the twine exceeds the maximum twine size of number 21. Twine on the pot escape panels can be replaced to be size-compliant when a vessel moves operations, but there is a cost to doing so. To reduce regulatory complexity and to make pot fishing operations more efficient when harvesting with pots in both regions, the Council considered changes to align maximum untreated cotton twine size between the North Pacific and the Pacific coast fisheries. Some studies show that thicker twine degrades more slowly than thinner twine, but other studies have shown that manufacturing methods and brand of material has a greater influence on degradation time than thickness. Therefore, it is possible that allowing thicker twine in the Pacific coast groundfish fishery could prolong the time lost pot gear has a closed escape panel. However, number 30 twine is only approximately 0.3 mm bigger than number 21 twine, and is the maximum twine size off the coast of Alaska and no concerns have been identified in its degradation time. The overall effect of the change is likely negligible, given the very low rates of gear loss in this Pacific coast groundfish fishery.

For these reasons, the Council recommended and NMFS is proposing in this rulemaking to revise regulations to ensure that escape panels on pot gear are not positioned on the bottom of the pot, and change the maximum untreated cotton twine size for closing escape panels from “not to exceed number 21” to “not to exceed number 30.”

Also in this proposed rule, NMFS is proposing, technical changes to 50 CFR part 660 to revise relevant regulations regarding longline and bottom longline gears to clarify key gear terminology, so that it is clear exactly what type of longline gear is affected by this proposed rule. Multiple different gear configurations could be considered to be longline across multiple fisheries, however, not all longlines are considered the type of longline gear used in the groundfish fishery and defined in groundfish regulations. In the definition of fixed gear at § 660.11, longline is described as an anchored hook-and-line gear type that is separate and distinct from stationary hook-and-line and vertical hook-and-line. This definition precludes trolled or floating, horizontal longline from being considered longline in the context of fixed gear. Under this definition, longline means bottom longline gear, which is also defined at § 660.11. Currently, in the limited entry fixed gear fishery the only configuration of longline gear that may be used to harvest quotas associated with a longline-endorsed permit is one that meets the definition of bottom longline. However, in most instances throughout groundfish regulations the word “bottom” to describe the configuration of groundfish longline gear has been inadvertently omitted. Therefore, NMFS proposes to replace “longline” with “bottom longline” in the definition of “fixed gear” at § 660.11, throughout regulations pertaining to gear endorsements for limited entry permits at § 660.25, and throughout limited entry fixed gear and open access commercial groundfish regulations, where applicable.

These regulation changes have been deemed by the Council as consistent with their recommendations implemented in this proposed rule.

V. Classification

Pursuant to sections 303(c)(2) and 304 (b)(1)(A) of the Magnuson-Stevens Act, the NMFS Assistant Administrator has determined that this proposed rule is consistent with the Pacific Coast Groundfish Fishery Management Plan, other provisions of the Magnuson-Stevens Act, and other applicable law, subject to further consideration after public comment.

This proposed rule has been determined to be not significant for the purposes of Executive Order 12866.

NMFS prepared an analysis for this action, which address the statutory requirements of the Magnuson-Stevens Act, Presidential Executive Order 12866, and the Regulatory Flexibility Act. The full suite of alternatives analyzed by the Council can be found on the Council's website at https://www.pcouncil.org.

Regulatory Impact Review (RIR)

An RIR was prepared to assess all costs and benefits of available regulatory alternatives. A copy of this Analysis is available from NMFS (see ADDRESSES section). NMFS is recommending the regulatory revisions in this proposed rule based on its assessment of the net benefits to the Nation of these measures.

Regulatory Flexibility Act (RFA)

An initial regulatory flexibility analysis (IRFA) was prepared, as required by section 603 of the RFA. The IRFA describes the economic impact this proposed rule, if adopted, would have on small entities. A description of the action, why it is being considered, and the legal basis for this action are contained at the beginning of this section in the preamble and in the SUMMARY section of the preamble. A summary of the analysis follows. A copy of this analysis is available from the Council (see ADDRESSES).

For purposes of the RFA (5 U.S.C. 601 et seq.) only, NMFS has established a small business size standard for businesses, including their affiliates, whose primary industry is commercial fishing (see 50 CFR 200.2). A business primarily engaged in commercial fishing is classified as a small business if it is independently owned and operated, is not dominant in its field of operation (including its affiliates), and has combined annual receipts not in excess of $11 million for all its affiliated operations worldwide. This standard applies to all businesses classified under North American Industry Classification System (NAICS) code 11411 for commercial fishing, including all businesses classified as commercial finfish fishing (NAICS 114111), commercial shellfish fishing (NAICS 114112), and other commercial marine fishing (NAICS 114119) businesses (50 CFR 200.2; 13 CFR 121.201).

All commercial groundfish participants that use bottom longline or pot gears in the limited entry or directed open access fisheries in the EEZ off Washington, Oregon, and California, which are managed under the Groundfish FMP, may be affected by this proposed rule. The proposed gear marking and entanglement risk reduction measures would require the specified gear marking and surface line limitation described in this rule for non-tribal commercial vessels deploying either gear type. Examples of gears that would not be affected by this rule include select non-trawl gear types (troll gear and commercial vertical hook-and-line gear not anchored to the bottom, such as vertical jig gear or rod-and-reel gear with weights suspended off the bottom).

These proposed prohibitions for using unmarked bottom longline or pot gears would impact all vessels operating in the limited entry fixed gear fishery, gear switchers in the Shorebased Individual Fishing Quota Program (collectively limited entry), and the directed open access fishery using the subject gear types. The proposed marking measures would prohibit using gear marked for other gear types or for other fisheries while vessels are participating in the directed open access and limited entry groundfish fisheries. The proposed entanglement risk reduction measures would prohibit having more than 10 fm (18 m) of line in the surface set up that connects surface buoys. The measures would also allow vessels to use one buoy line instead of being required to use two. In general, implementation of gear marking requirements is expected to lead to improvements to positive or negative attributions to gears and fishery sectors when entanglements occur, which would provide NMFS the ability to target management measures more narrowly and effectively, which may have the potential reduce negative economic impacts of broader measures to reduce entanglements in the future.

From 2019-2023, there were 606 unique vessels that utilized pot or longline gear in the limited entry and directed open access fisheries, with an annual average of 303 unique vessels per year. These vessels are considered those that would be potentially affected by this action. The majority of affected vessels participate in the directed open access fishery. Limited entry nontrawl vessels mostly use bottom longline gear, likely a result of the greater number of longline-endorsed permits compared to pot-endorsed permits in the limited entry fishery. As described in the analysis at section 3.6.2 of the IRFA, an average of approximately 35 vessels utilize both gear types (bottom longline and pot gear)—either within the same fishery sector (e.g., use both bottom longline and pot gear in the directed open access fishery) or across groundfish fishery sectors (e.g., use bottom longline in the limited entry fishery and pot gear in the directed open access fishery). Also, some vessels harvest in multiple fisheries, including groundfish, that are subject to gear marking requirements. The costs of marking the subject gear in the limited entry and directed open access groundfish fisheries are in addition to the costs associated with marking fishing gear used in other fisheries. For example, of the vessels that may be affected by this rulemaking, an average of approximately 35 percent also participate in state-managed Dungeness crab fisheries annually. Of those vessels, most of them are participants in the directed open access fishery, which are typically smaller operators than those in the limited entry fisheries. For the 5-16 vessels that utilized both pot and bottom longline gear in the groundfish fishery and also participate in Dungeness crab, that would require an investment in at least three distinct sets of markings. Cumulatively, increased operational costs to maintain markings for a diverse portfolio of fishing opportunities could deter vessels from pursuing their historical portfolio of fisheries, or entering these fisheries in the future.

All directed open access vessels are assumed to be small entities, with ex-vessel revenues for all landings (groundfish and non-groundfish) averaging $85,601 in 2023. In 2023, 197 of the 223 limited entry (bottom longline and/or pot gear endorsed) permits reported as small entities. For limited entry gear switching vessels in the trawl Shorebased Individual Fishing Quota program, of the ten that participated in 2023, all reported as small entities.

Note that there is not a strict one-to one correlation between vessels and entities, nor between permits and entities; therefore, some persons or firms likely have ownership interests in more than one vessel or permit. Therefore, the actual number of entities regulated by this proposed action may be lower than the estimates presented here.

The proposed action may disproportionately affect small entities compared to large entities given that the potential costs to implement the proposed marking requirements may reduce profitability to a relatively greater degree for small entities. The one-time cost to a single entity or vessel from the gear marking requirements in this rule is not likely to exceed $1,146 (two coils of manufactured line, plus gear-specific tags for each buoy under the assumption that surface gear would be on both ends of a string of gear). This maximum expected cost is expected to represent less than 1.5 percent of the average ex-vessel revenues for all landings (groundfish and non-groundfish) for small entities. While the actual marking cost for a single groundfish sector alone might not be significant, the cumulative impacts when combined with gear marking requirements in other fisheries in which the same entity participates (e.g., state-managed Dungeness crab) might be disproportionately higher for individuals with exceptionally small operations or low profit margins.

This action would apply to all entities that participate in limited entry or directed open access groundfish fisheries using bottom longline or pot gears, and the majority of those entities are considered small entities. This action to require consistent marking schemes on all of the subject gears in the directed groundfish fishery is necessary to meet the purpose of this proposed action: to positively or negatively attribute an entanglement to groundfish pot or bottom longline gears. Other alternatives considered shorter distances for line marking; however, there were substantive concerns that if less of the vertical line is marked, the marked portion may not be visible and readily identifiable in case of an entanglement. It is expected that at least 20 fm (36.6 meters) of marked line and gear-specific buoy tags for surface gear will be sufficient to improve the ability to identify the fishery of origin in an entanglement, while preserving enough operational flexibility so as to not place undue burden on the fleets.

Paperwork Reduction Act

This proposed rule contains a collection-of-information requirement subject to review and approval by the Office of Management and Budget (OMB) under the Paperwork Reduction Act (PRA). This rule revises an existing collection with new requirements for fishermen using specific gear types to harvest groundfish to disclose publicly what gear type they are deploying by marking their gear with gear-specific tags attached to buoys and at least the top 20 fm (37 m) of the vertical line in a required color scheme (either temporarily marked in continuous alternating-colored bands (will only apply for 3 years following effective date of final rule) or manufactured with only the two specific colors). Burden estimates for the existing collection, which requires vessel identification on a buoy, are revised to update the estimated number of affected entities with updated fishery information and to adjust cost burden estimates for inflation. No change in the minutes per response is proposed to the existing collection. Public reporting burden for new gear marking requirements that are the subject of this proposed rule is estimated to average 5 hours per year per individual response to gear marking requirements. Burden hour estimates include the time for reviewing instructions, searching equipment sources, gathering and maintaining the equipment needed, and completing and maintaining the collection of information. The collection of similar information was previously approved by the OMB under OMB Control Number 0648-0352.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at https://www.reginfo.gov/public/do/PRAMain.

Notwithstanding any other provision of the law, no person is required to respond to, nor shall any person be subject to a penalty for failure to comply with, a collection of information subject to the requirements of the PRA, unless that collection of information displays a currently valid OMB Control Number.

List of Subjects in 50 CFR Part 660

Fisheries, Fishing, Reporting and recordkeeping requirements.

Dated: January 21, 2026.
Samuel D. Rauch III,
Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend part 660 subparts C, E, and F by:

a. Removing the word “Longline” and adding in its place the words “Bottom longline” wherever it appears except where “Bottom longline” already appears under paragraphs “Fishing gear”(6)(i) and 660.711(a)(2);

b. Removing the word “longline” and adding in its place the words “bottom longline” wherever it appears, except where “bottom longline” already appears under paragraphs 660.12(a)(15), 660.13(d)(4)(iv)(A)(21), 660.21(b)(1), 660.21(c)(1)(iii) and (c)(2)(ii), 660.140(k)(1)(iv), 660.230(b)(5), 660.330(b)(2)(i).

3. Amend § 660.11 as follows:

a. Amend the definition of “Fishing gear” by revising paragraph (5), adding paragraphs (6)(i)(B), (C) and (D), and revising paragraph (10);

b. Amend the definition of “Open access fishery” by revising paragraph (1).

The additions and revisions read as follows:

§ 660.11 General definitions.

* * * * *

Fishing gear * * *

(5) Fixed gear (anchored non-trawl gear) means the following gear types: bottom longline, trap or pot, set net, and stationary hook-and-line (including commercial vertical hook-and-line) gears. Limited entry fixed gear is defined at § 660.211.

(6) Hook-and-line * * *

(i) * * *

(B) Surface line means line at or near the water's surface that connects the main buoy to any additional buoys.

(C) Vertical line means the line connecting the main buoy to the groundline.

(D) Main buoy means the buoy closest to the groundline, attached to the vertical line at or near the water's surface.

* * * * *

(10) Trap or pot See § 600.10 of this chapter, definition of “trap”. These terms are used as interchangeable synonyms.

(i) Surface line means line at or near the water's surface that connects the main buoy to any additional buoys.

(ii) Vertical line means the line connecting a pot or groundline attached to multiple pots to the main buoy.

(iii) Main buoy means the buoy closest to the fishing gear (pot or groundline) and attached to the vertical line at or near the surface.

(iv) Collapsible pot means a cylindrical pot that is not rigid, and can be collapsed for storage when not deployed, also called “slinky pots”.

* * * * *

Open access fishery * * *

(1) For the purpose of the non-trawl logbook requirements at § 660.13, the provision to fish inside the nontrawl RCA at § 660.330(b)(3), and the provisions for gear identification and gear marking at § 660.319, directed open access fishery means that a fishing vessel is target fishing for groundfish under the requirements of 50 CFR 660 subpart F, is only declared into an open access groundfish gear type or sector as defined in § 660.13(d)(4)(iv)(A), and has not declared into any other gear type or sector.

* * * * *

4. In § 660.12, revise paragraphs (a)(2) and (a)(9) to read as follows:

§ 660.12 General groundfish prohibitions.

* * * * *

(a) * * *

(2) Falsify or fail to affix and maintain vessel and gear identifications and markings as required by § 660.20 or § 660.219, subpart E or § 660.319, subpart F.

* * * * *

(9) When requested or required by an authorized officer, refuse to present fishing gear, including gear marking tags, for inspection, refuse to present fish subject to such persons control for inspection; or interfere with a fishing gear or marine animal or plant life inspection.

* * * * *

5. In § 660.20, revise paragraph (b) to read as follows:

§ 660.20 Vessel and gear identification.

* * * * *

(b) Gear identification. Gear identification requirements specific to fisheries using fixed gear (limited entry and open access, as defined at § 660.11 of this subpart) are described at § 660.219, subpart E and § 660.319, subpart F.

6. In § 660.25, revise paragraph (b)(4)(iv)(B)(2) to read as follows:

§ 660.25 Permits.

* * * * *

(b) * * *

(4) * * *

(iv) * * *

(B) * * *

(2) a single trawl-endorsed limited entry permit and one bottom longline-endorsed limited entry permit for use with a single vessel.

* * * * *

7. Revise § 660.219 to read as follows:

§ 660.219 Fixed gear identification and marking.

(a) Gear identification.

(1) Limited entry fixed gear (bottom longline, trap or pot) as defined at § 660.211 must be marked at the surface and on at least one terminal end, with a pole, flag, light, radar reflector, and a buoy (i.e., gear may be marked at either both terminal ends or at one terminal end).

(2) Any buoy used to mark limited entry fixed gear, as defined at § 660.11, subpart C,-must be marked with a legible number clearly identifying the owner or operator of the vessel. This number must be marked directly on at least one buoy deployed with the fishing gear; all other buoys may have the number directly on the buoy or may have the number included on tags attached to the buoy, as specified in paragraph (b)(1) of this section. The number may be either:

(i) If required by applicable state law, the vessel's number, the commercial fishing license number, or buoy brand number; or

(ii) The vessel documentation number issued by the USCG, or, for an undocumented vessel, the vessel registration number issued by the state.

(b) Gear marking. Bottom longline and trap or pot gear, as defined at § 660.11, used in the groundfish limited entry fisheries must have gear-specific markings on any vertical lines (as defined at § 660.11, subpart C) and all buoy(s). These gear-specific markings are in addition to vessel identification requirements set out in paragraph (a) of this section and applicable gear restrictions in § 660.230.

(1) Buoy marking. All buoys attached to the surface line of the subject gears in this paragraph must have a gear-specific durable tag for each buoy. Each gear-specific buoy tag must be stamped or engraved, where there is a physical indentation along with a contrasting color. Prior to gear deployment, if the tags are not securely attached to each buoy, tags for each buoy must be shown, upon request, to authorized agents. On a trip where a vessel is declared to fish with the subject gear, all buoys deployed with fishing gear are required to be marked with a tag.

(i) Tags used to mark buoys attached to bottom longline gear must be brown and large enough to accommodate a letter “L” engraved that is at least 1¾ inches (4.4 centimeters) in height.

(ii) Tags used to mark buoys attached to pot/trap gear must be orange and large enough to accommodate a letter “P” engraved that is at least 1¾ inches (4.4 centimeters) in height.

(2) Vertical line marking. All vertical lines (as defined at § 660.11) of the subject gears in this paragraph must have gear specific marks. Marks must be continuous in at least the top 20 fm (37 m) of the vertical line, measured from the main buoy down towards the groundline.

(i) Line manufactured in a gear specific color scheme must be used for the marked portion of line. Lines must be both brown and blue for use with bottom longline gear. Lines must be both orange and blue for use with pot gear. At least one-third of strands in marked line should be one of the gear-specific colors specified here, and the remainder of the strands the other color. Presence of any third color, besides white, is prohibited in the portion of the line required to be marked.

(ii) Until [DATE THREE YEARS AFTER THE EFFECTIVE DATE OF THE FINAL RULE], the colors specified in § 660.219(b)(2)(i) may be applied by temporary methods such that the colors are clearly visible and in continuous, alternating bands of 18-28 inches (46-71 cm) each, over the entire portion of the line required to be marked in this paragraph.

8. In § 660.230, revise paragraphs (b)(1) and (4) and add paragraph (b)(7) to read as follows:

§ 660.230 Fixed gear fishery—management measures.

* * * * *

(b) * * *

(1) Bottom longline and pot or trap gear are authorized in the limited entry fixed gear fishery, providing the gear complies with the restrictions set forth in this section, and gear identification and marking requirements described in § 660.219 of this subpart.

* * * * *

(4) Traps or pots must have escape panels.

(i) General. Traps or pots must have escape panels constructed with number 30 or smaller untreated cotton twine in such a manner that an opening at least 8 inches (20.3 cm) in diameter that is parallel to, and within 6 inches (15.2 cm) of the bottom of the pot, results when the twine deteriorates.

(ii) Collapsible pots. A collapsible pot (defined at § 660.11, subpart C) is exempt from the placement requirements for escape panels described in this section. Instead, a collapsible pot must have one of the following:

(A) An escape panel placed anywhere on the mesh of the collapsible pot, constructed with number 30 or smaller untreated cotton twine and in such a manner that an opening at least 8 inches (20.3 cm) in diameter results when the twine deteriorates.

(B) One door on the pot must measure at least 8 inches (20.3 cm) in diameter and be attached with number 30 or smaller untreated cotton thread.

* * * * *

(7) Surface line, defined at § 660.11, subpart C, that is used with bottom longline or pot gear may not exceed 10 fathoms (18.3 m) in length, measured from the terminal end to the main buoy.

* * * * *

9. In § 660.319, revise paragraphs (a) and (b) to read as follows:

§ 660.319 Open access fishery gear identification and marking.

(a) Gear identification.

(1) Open access fixed gear (bottom longline, trap or pot, set net and stationary hook-and-line gear, including commercial vertical hook-and-line gear) must be marked at the surface and at each terminal end, with a pole, flag, light, radar reflector, and a buoy, except that in the directed open access fishery (defined at § 660.11), bottom longline and pot gears may be marked at just one terminal end as described in this paragraph (i.e. gear may be marked at either both terminal ends or one terminal end).

(2) Open access commercial vertical hook-and-line gear that is closely tended as defined at § 660.311 of this subpart, may be marked only with a single buoy of sufficient size to float the gear.

(3) A buoy used to mark fixed gear under paragraph (a)(1) or (a)(2) of this section must be marked with a legible number clearly identifying the owner or operator of the vessel. Any buoy used to mark bottom longline or pot gear in the directed open access fishery must be marked with a legible number clearly identifying the owner or operator of the vessel. For these two gear types, the number must be marked directly on at least one buoy used with surface gear, all other buoys may have the number directly on the buoy or may have the number included on gear marking tags attached to the buoy, as specified in paragraph (b)(1) of this section. In all cases, the number may be either:

(i) If required by applicable state law, the vessel's number, the commercial fishing license number, or buoy brand number; or

(ii) The vessel documentation number issued by the USCG, or, for an undocumented vessel, the vessel registration number issued by the state.

(b) Gear marking. Bottom longline and pot gears used in the directed open access fishery (defined at § 660.11) must have gear-specific markings on any vertical lines (as defined at § 660.11, subpart C) and all buoy(s). These gear-specific markings are in addition to identification requirements set out in paragraph (a) of this section and applicable gear restrictions set out in § 660.330.

(1) All buoys attached to the surface line of the subject gears in this paragraph must have a gear-specific durable tag for each buoy. Each gear-specific buoy tag must be stamped or engraved, where there is a physical indentation along with a contrasting color. Prior to gear deployment, if the tags are not securely attached to each buoy, tags for each buoy must be shown, upon request, to authorized agents. On a trip where a vessel is declared to fish with the subject gear, all buoys are required to be marked with a tag.

(i) Tags used to mark buoys attached to bottom longline gear must be brown and large enough to accommodate a letter “L” engraved that is at least 1¾ inches (4.4 cm) in height.

(ii) Tags used to mark buoys attached to pot/trap gear must be orange and large enough to accommodate a letter “P” engraved that is at least 1¾ inches (4.4 cm) in height.

(2) All vertical lines (as defined at § 660.11) of the subject gears in this paragraph must have gear specific marks. Marks must be continuous in at least the top 20 fm (37 m) of the vertical line, measured from the main buoy down towards the groundline.

(i) Manufactured line in a gear specific color scheme must be used for the marked portion of line. Lines must be both brown and blue for use with bottom longline gear. Lines must be both orange and blue for use with pot gear. At least one-third of strands in marked line should be in one of the listed colors, and the remainder of the strands in the other color. Presence of any third color, besides white, is prohibited in the portion of the line required to be marked.

(ii) Until [date three years after the effective date of the final rule], the colors specified in § 660.319(b)(2)(i) may be applied by temporary methods such that the colors are clearly visible and in continuous, alternating bands of 18-28 inches (46-71 cm) each, over the entire portion of the line required to be marked in this paragraph.

10. In § 660.330, revise paragraphs (b) introductory text, (b)(2)(i), and (b)(2)(iii) to read as follows:

§ 660.330 Open access fishery—management measures.

* * * * *

(b) Gear restrictions. Open access gear is defined at § 660.11, subpart C, and includes but is not limited to, bottom longline, trap or pot, hook-and-line (fixed or mobile), setnet (anchored gillnet or trammel net, which are permissible south of 38° N lat. only), spear and non-groundfish trawl gear (trawls used to target non-groundfish species: pink shrimp or ridgeback prawns, and, south of Pt. Arena, CA (38°57.50' N lat.), California halibut or sea cucumbers). Restrictions for gears used in the open access fisheries are as follows:

* * * * *

(2) * * *

(i) Fixed gear. Fixed gear (bottom longline, trap or pot, set net and stationary hook-and-line gear, including commercial vertical hook-and-line gear) must be attended at least once every 7 days and is subject to the vessel identification requirements described at § 660.319 of this subpart. Vessels fishing with bottom longline and snap gears as defined at § 660.11, subpart C are subject to the requirements of the Seabird Avoidance Program described in § 660.21, subpart C. Vessels fishing with bottom longline or pot and trap gears in the directed open access fishery, as defined at § 660.11, are subject to the gear marking requirements described in § 660.319 of this subpart.

* * * * *

(iii) Traps or pots must have escape panels.

(A) Traps or pots must have escape panels constructed with number 30 or smaller untreated cotton twine in such a manner that an opening at least 8 inches (20.3 cm) in diameter that is parallel to, and within 6 inches (15.2 cm) of the bottom of the pot, results when the twine deteriorates.

(B) A collapsible pot (defined at § 660.11, subpart C) is exempt from the placement requirements for escape panels described in this section. Instead, a collapsible pot must have one of the following:

(1) An escape panel placed anywhere on the mesh of the collapsible pot, constructed with number 30 or smaller untreated cotton twine and in such a manner that an opening at least 8 inches (20.3 cm) in diameter results when the twine deteriorates.

(2) One door on the pot must measure at least 8 inches (20.3 cm) in diameter and be attached with number 30 or smaller untreated cotton thread.

* * * * *

[FR Doc. 2026-02370 Filed 2-5-26; 8:45 am]

BILLING CODE 3510-22-P